FEDERAL COMMUNICATIONS COMMISSION

Radio Broadcasting Services; AM or FM Proposals To Change the Community of License

AGENCY: Federal Communications Commission.

ACTION: Notice.

DATES: The agency must receive comments on or before April 16, 2018.

ADDRESSES: Federal Communications Commission, 445 Twelfth Street SW, Washington, DC 20554.

FOR FURTHER INFORMATION CONTACT: Rolanda F. Smith, 202-418-2054.

SUPPLEMENTARY INFORMATION: The following applicants filed AM or FM proposals to change the community of license: CENTRAL FLORIDA EDUCATIONAL FOUNDATION, INC, WMYZ, Fac. ID No. 27291, Channel 204C2, From CLERMONT, FL, To THE VILLAGES, FL, BPED-20180117ACL; CEDAR COVE BROADCASTING, INC., KAZK, Fac. ID No. 176305, Channel 209C2, From WILLCOX, AZ, To CATALINA, AZ, BPED-20180111AAA; UNITED STATES CP, LLC, KRYE, Fac. ID No. 164276, Channel 285C3, From OLNEY SPRINGS, CO, To RYE, CO, BPH-20180202AAX; ENTRAVISION HOLDINGS, LLC, KVVA-FM, Fac. ID No. 1331, Channel 296C3, From APACHE JUNCTION, AZ, To SUN LAKES, AZ, BPH-20171227AAK; and SEBAGO BROADCASTING COMPANY, WCTG, Fac. ID No. 88405, Channel 243A, From CHINCOTEAGUE, VA, To WEST POCOMOKE, MD, BPH-20170707AAP.

The full text of these applications is available for inspection and copying during normal business hours in the Commission's Reference Center, 445 12th Street SW, Washington, DC 20554 or electronically via the Media Bureau's Consolidated Data Base System, http://licensing.fcc.gov/prod/cdbs/pubacc/prod/cdbs_pa.htm.

Federal Communications Commission.
Nazifa Sawez,
Assistant Chief, Audio Division, Media Bureau.

[FR Doc. 2018-03152 Filed 2-14-18; 8:45 am]

BILLING CODE 6712-01-P